DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Evaluation Support Services.

OMB Control Number: 0648-xxxx.

Form Number(s): None.

Type of Request: Regular (request for a new information collection).

Number of Respondents: 1,473.

Average Hours per Response: 25 minutes per recipient survey; 15 minutes per nonrecipient survey; 60 minutes per community partner, institution partner, CSC administrator, and CSC center director interview; 90 minutes per student focus group.

Burden Hours: 599.

Needs and Uses: This request is for a new information collection.

Since its establishment in 1970 under the Department of Commerce, the National Oceanic and Atmospheric Administration (NOAA)'s primary goals are to understand and predict changes in the Earth's environment, to conserve and manage coastal and marine resources, and to serve the nation's economic, social, and environmental needs. One of NOAA's staff offices, the Office of Education (OEd), also serves a critical function as the nation's primary educator on matters related to the ocean, coastal resources, the atmosphere, and climate. One of the ways NOAA fulfills its national duty is by providing educational resources and scholarship opportunities for future scholars.

The Ernest F. Hollings Undergraduate Scholarship Program (HUSP) was established in 2005; since then, it has provided support to approximately 1,144 undergraduate students. This scholarship opportunity provides 2 academic years of tuition support (up to $8,000 per year) and a 10-week paid internship with a NOAA mentor to competitive undergraduate scholars in NOAA-related major fields of study. The HUSP also provides undergraduates with additional supports such as living expenses, travel stipends, and conference allowances. The main goals of HUSP include increasing undergraduate training and research in NOAA sciences; recruiting and preparing students for careers as public servants and environmental science educators; and building public understanding of and support for environmental stewardship issues (i.e., increasing environmental literacy).

The Educational Partnership Program (EPP) comprises three unique components: the Undergraduate Scholarship Program (USP), the Graduate Studies Program (GSP), and four Cooperative Science Centers (CSCs). USP is a scholarship opportunity that provides recipients with hands-on research and training in NOAA-related sciences and provides scholars the opportunity to gain valuable work experience at NOAA facilities. To date, USP has funded 175 scholars. GSP is similar, and supported (funded 59 students) graduate students interested in pursuing NOAA mission-critical fields by providing them with work experience and hands-on training in NOAA-related research fields. The CSCs' overarching goal is to increase underrepresentation in STEM and NOAA-related fields by providing education and training opportunities in these fields. Each CSC has a distinct educational focus, defined mission, partner institution, and designated research partner. In addition to providing education and training opportunities for students, CSCs assist their MSI partners in building their institutional management, scientific, and research capacities in NOAA-related fields.

The proposed evaluation will examine the effectiveness of two of NOAA's OEd scholarship programs: EPP and HUSP. It will also assess the efficacy of the CSCs, which constitute another educational component central to NOAA's educational mission. The primary objective of this evaluation is to determine how well NOAA's HUSP and EPP scholarship programs translate to measurable outcomes for participants.

Affected Public: Individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 29, 2015.
Sarah Brabson,
NOAA PRA Clearance Officer.

[FR Doc. 2015-16287 Filed 7-1-15; 8:45 am]

BILLING CODE 3510-22-P